ENVIRONMENTAL PROTECTION AGENCY

40 CFR Part 81

[EPA-R09-OAR-2015-0608; FRL-9934-51-Region 9]

Designation for Planning Purposes; California; PM10; Technical Amendment

AGENCY: Environmental Protection Agency (EPA).

ACTION: Final rule; technical amendment.

SUMMARY: The Environmental Protection Agency (EPA) is making a technical amendment to the Code of Federal Regulations to restore the inadvertent deletion of the entry for “Rest of State” from the table listing California air quality planning area designations for particulate matter of ten microns of less (PM10).

DATES: This technical amendment is effective on September 22, 2015.

FOR FURTHER INFORMATION CONTACT: Jerry Wamsley, EPA Region IX, (415) 947-4111, wamsley.jerry@epa.gov.

SUPPLEMENTARY INFORMATION: On March 19, 2013, the EPA published a direct final rule amending 40 CFR 81.305 to clarify the description of the Imperial Valley planning area, an area designated nonattainment for the National Ambient Air Quality Standard (NAAQS) for particulate matter of ten microns of less (PM10) (78 FR 16792). In our March 19, 2013 direct final rule, we amended the entry for “Imperial Valley planning area” but did not intend to amend any other entry in the table listing PM10 air quality planning area designations for the State of California. We believe, however, that the entry appearing directly after the entry for “Imperial Valley planning area” in the “California-PM-10” table and reading “Rest of State; 11/15/90; Unclassifiable” was deleted inadvertently when the entry for “Imperial Valley planning area” was amended. For example, see and compare the “California-PM-10” table within the July 1, 2012 version to the July 1, 2013 version of 40 CFR 81.305.

Consequently, the EPA is publishing this technical amendment to restore the “Rest of State” designation entry within the 40 CFR 81.305 “California-PM-10” table as it appeared prior to our March 19, 2013 direct final action.

List of Subjects in 40 CFR Part 81

Environmental protection, Air pollution control, National parks, Wilderness areas.

Dated: September 9, 2015.
Jared Blumenfeld,
Regional Administrator, Region IX.

Part 81, Chapter I, Title 40 of the Code of Federal Regulations is amended as follows:

PART 81—DESIGNATION OF AREAS FOR AIR QUALITY PLANNING PURPOSES

1. The authority citation for Part 81 continues to read as follows:

Authority: 42 U.S.C. 7401 et seq.

2. Section 81.305 is amended in the table for “California—PM-10” by adding an entry for “Rest of State” at the end of the table to read as follows:

§ 81.305 California.

* * * * *

California—PM-10
Designated Area | Designation: Date | Designation: Type | Classification: Date | Classification: Type
* * * * * * *
Rest of State | 11/15/90 | Unclassifiable

* * * * *

[FR Doc. 2015-24049 Filed 9-21-15; 8:45 am]

BILLING CODE 6560-50-P